INTERNATIONAL TRADE COMMISSION

Sunshine Act Meeting

AGENCY HOLDING THE MEETING: United States International Trade Commission.

TIME AND DATE: November 27, 2000 at 2 p.m.

PLACE: Room 101, 500 E Street SW., Washington, DC 20436, Telephone: (202) 205-2000.

STATUS: Open to the public.

MATTERS TO BE CONSIDERED:

1. Agenda for future meeting: none

2. Minutes

3. Ratification List

4. Inv. No. 731-TA-894 (Preliminary) (Ammonium Nitrate from Ukraine)—briefing and vote. (The Commission is currently scheduled to transmit its determination to the Secretary of Commerce on November 27, 2000; Commissioners' opinions are currently scheduled to be transmitted to the Secretary of Commerce on December 4, 2000.)

5. Outstanding action jackets: none

In accordance with Commission policy, subject matter listed above, not disposed of at the scheduled meeting, may be carried over to the agenda of the following meeting.

Issued: November 14 , 2000.
By order of the Commission:
Donna R. Koehnke,
Secretary.

[FR Doc. 00-29475 Filed 11-14-00; 1:50 pm]

BILLING CODE 7020-02-P